DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Residential Building or Zoning Permit Systems.

Form Number(s): C-411.

OMB Control Number: 0607-0350.

Type of Request: Extension of a currently approved collection.

Burden Hours: 500.

Number of Respondents: 2,000.

Average Hours Per Response: 15 minutes.

Needs and Uses: The U.S. Census Bureau produces statistics used to monitor activity in the large and dynamic construction industry. These statistics help state and local governments and the Federal government, as well as private industry, to analyze this important sector of the economy. The accuracy of the Census Bureau statistics regarding the amount of construction authorized depends on data supplied by building and zoning officials throughout the country.

The Census Bureau uses Form C-411 to obtain information from state and local building permit officials needed for updating the universe of permit-issuing places which serves as the sampling frame for the Report of Privately-Owned Residential Building or Zoning Permits Issued (OMB Control No. 0607-0094), also known as the Building Permits Survey (BPS), and the Survey of Housing Starts, Sales, and Completions (OMB Control No. 0607-0110), also known as Survey of Construction (SOC). These two sample surveys provide widely used measures of construction activity, including the economic indicators New Residential Construction and New Home Sales. The questions on Form C-411 pertain to the legal requirements for issuing building or zoning permits in the local jurisdictions. Information is obtained on such items as geographic coverage and types of construction for which permits are issued.

The form is sent to jurisdictions when the Census Bureau has reason to believe that a new permit system has been established or an existing one has changed. This is based on information from a variety of sources including survey respondents, regional councils and Census' efforts to keep abreast of changes in corporate status. Based on the information collected, the Census Bureau adds new permit-issuing places to the universe, deletes places no longer issuing permits, and makes changes to the universe to reflect those places that have merged.

Failure to maintain the universe of permit-issuing places would result in deficient samples and inaccurate statistics. This in turn jeopardizes the accuracy of the above-mentioned economic indicators. These indicators are closely monitored by the Board of Governors of the Federal Reserve System and other economic policy makers because of the sensitivity of the housing industry to changes in interest rates.

Affected Public: State, local or Tribal government; Federal government.

Frequency: On occasion.

Respondent's Obligation: Voluntary.

Legal Authority: The Census Bureau is authorized under Title 13, United States Code, Sections 9(b), 161, and 182 to collect information on new residential buildings.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 7, 2008.
Gwellnar Banks,
Management Analyst, Office of the Chief Information Officer.

[FR Doc. E8-18648 Filed 8-12-08; 8:45 am]

BILLING CODE 3510-07-P